DEPARTMENT OF LABOR

Employment and Training Administration

[TA-W-58,216]

Yankee Plastics, Incorporated Easthampton, MA; Notice of Termination of Investigation

Pursuant to section 221 of the Trade Act of 1974, as amended, an investigation was initiated on October 26, 2005 in response to a worker petition filed by a company official on behalf of workers at Yankee Plastics, Incorporated, Easthampton, Massachusetts.

The petitioner has requested that the petition be withdrawn. Consequently the investigation has been terminated.

Signed at Washington, DC, this 14th day of November 2005.
Richard Church,
Certifying Officer, Division of Trade Adjustment Assistance.

[FR Doc. E5-6877 Filed 12-5-05; 8:45 am]

BILLING CODE 4510-30-P